DEPARTMENT OF ENERGY

Western Area Power Administration

Construction, Operation, and Maintenance of the Proposed Transmission Agency of Northern California Transmission Project, California

AGENCY: Western Area Power Administration, DOE.

ACTION: Extension of scoping period.

SUMMARY: On February 23, 2009, Western Area Power Administration (Western), an agency of the DOE, announced the Notice of Intent to prepare an Environmental Impact Statement/Environmental Impact Report (EIS/EIR) for the construction, operation, and maintenance of the proposed Transmission Agency of Northern California (TANC) Transmission Project (74 FR 8086). In that notice, Western described the schedule for scoping meetings and advised the public that comments on the scope of the EIS/EIR were due by April 30, 2009. By this notice, Western extends the due date for comments on the scope of the EIS/EIR to May 31, 2009.

DATES: The date to provide comments on the scope of the EIS/EIR is extended to May 31, 2009.

ADDRESSES: Written comments on the scope of the EIS/EIR should be addressed to Mr. David Young, National Environmental Policy Act (NEPA) Document Manager, Western Area Power Administration, Sierra Nevada Region, 114 Parkshore Drive, Folsom, CA 95630 or e-mail TTPEIS@wapa.gov.

FOR FURTHER INFORMATION CONTACT: For further information, please contact Mr. David Young, NEPA Document Manager, Western Area Power Administration, Sierra Nevada Region, 114 Parkshore Drive, Folsom, CA 95630, telephone (916) 353-4777, fax (916) 353-4772, or e-mail TTPEIS@wapa.gov. Additional information on the proposed Project can also be found and comments submitted at http://www.wapa.gov/transmission/ttp.htm. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: On February 23, 2009, Western announced the Notice of Intent to prepare an EIS for the construction, operation, and maintenance of the proposed TANC Transmission Project (74 FR 8086). In that notice, Western described the schedule for scoping meetings for the EIS/EIR, and advised the public that comments regarding the scope of the EIS/EIR were due by April 30, 2009. Western held all public scoping meetings as scheduled. With this notice, Western extends the due date for comments on the scope of the EIS/EIR to May 31, 2009. Comments can be sent to Mr. Young at the addresses above.

Dated: May 1, 2009.
Timothy J. Meeks,
Administrator.

[FR Doc. E9-10743 Filed 5-7-09; 8:45 am]

BILLING CODE 6450-01-P